DEPARTMENT OF HOMELAND SECURITY

Identification of Foreign Countries Whose Nationals Are Eligible To Participate in the H-2A Visa Program

AGENCY: Office of the Secretary, DHS.

ACTION: Notice.

SUMMARY: On December 18, 2008, DHS published in the Federal Register a final rule “Changes to Requirements Affecting H-2A Nonimmigrants,” which provides that the Secretary of Homeland Security will publish a list of designated countries whose nationals can be the beneficiaries of an approved H-2A petition and are eligible for H-2A visas. This initial list will be composed of countries that are important for the operation of the H-2A program and are cooperative in the repatriation of their citizens, subjects, nationals or residents who are subject to a final order of removal from the United States. Publication of such notice is made by the Secretary of Homeland Security, with the concurrence of the Secretary of State. Under the final rule, the Department of Homeland Security (DHS) will only approve petitions for H-2A nonimmigrant status for nationals of countries designated by means of this list or by means of the special procedure allowing petitioners to request approval for particular beneficiaries if the Secretary of Homeland Security determines that it is in the U.S. interest. Pursuant to the final rule, this notice designates those countries the Secretary of Homeland Security, with the concurrence of the Secretary of State, has found to be eligible to participate in the H-2A program.

DATES: This notice is effective January 17, 2009, and shall be without effect at the end of one year after January 17, 2009.

SUPPLEMENTARY INFORMATION:

Designation of Countries Whose Nationals Are Eligible To Participate in the H-2A Visa Program

Pursuant to the authority provided to the Secretary of Homeland Security under sections 241, 214(a)(1), and 215(a)(1) of the Immigration and Nationality Act (INA) (8 U.S.C. 1231, 1184(a)(1), and 1185(a)(1)), I have designated, with the concurrence of the Secretary of State, that nationals from the following countries are eligible to participate in the H-2A visa program: Argentina; Australia; Belize; Brazil; Bulgaria; Canada; Chile; Costa Rica; Dominican Republic; El Salvador; Guatemala; Honduras; Indonesia; Israel; Jamaica; Japan; Mexico; Moldova; New Zealand; Peru; Philippines; Poland; Romania; South Africa; South Korea; Turkey; Ukraine; United Kingdom.

This notice does not affect the status of aliens who currently hold H-2A nonimmigrant status.

Nothing in this notice limits the authority of the Secretary of Homeland Security or his or her designee or any other federal agency to invoke against any foreign country or its nationals any other remedy, penalty or enforcement action available by law.

Paul A. Schneider,
Deputy Secretary.

[FR Doc. E8-29785 Filed 12-17-08; 8:45 am]

BILLING CODE 4410-10-P